DEPARTMENT OF ENERGY

Federal Energy Regulatory Commission

[Project No. 400-038]

Willard Janke v. Public Service Company of Colorado; Notice Granting Extension of Time to File Answer to Complaint

January 17, 2003.

On January 3, 2003, notice was issued of Willard Janke's complaint against the Public Service Company of Colorado (Public Service), the licensee for the Tacoma-Ames Project No. 400. The notice established January 21, 2003, as the deadline for filing the answer to the complaint.

On January 15, 2003, Public Service filed a motion requesting an extension to January 24, 2003, of the deadline for filing its answer. Public Service has shown good cause for granting the extension. Accordingly, its request is granted and its answer must be filed on or before January 24, 2003.

Magalie R. Salas,
Secretary.

[FR Doc. 03-1615 Filed 1-23-03; 8:45 am]

BILLING CODE 6717-01-P